DEPARTMENT OF AGRICULTURE

Animal and Plant Health Inspection Service

9 CFR Part 93

[Docket No. APHIS-2022-0014]

Importation of Live Dogs for Resale From Regions Where African Swine Fever Exists or Is Reasonably Believed to Exist

AGENCY: Animal and Plant Health Inspection Service, USDA.

ACTION: Proposed rule.

SUMMARY: We are proposing to amend the regulations to establish requirements regarding the importation of live dogs for resale, whether through retail or wholesale channels or fee-based adoption, from regions where African swine fever (ASF) exists or is reasonably believed to exist. These regulations are necessary because dogs imported from ASF-affected countries for resale purposes, along with bedding, represent a potential risk for the introduction of ASF into the United States. This action would address that risk.

DATES: We will consider all comments that we receive on or before November 27, 2023.

ADDRESSES: You may submit comments by either of the following methods:

• Federal eRulemaking Portal: Go to www.regulations.gov. Enter APHIS-2022-0014 in the Search field. Select the Documents tab, then select the Comment button in the list of documents.

• Postal Mail/Commercial Delivery: Send your comment to Docket No. APHIS-2022-0014, Regulatory Analysis and Development, PPD, APHIS, Station 3A-03.8, 4700 River Road, Unit 118, Riverdale, MD 20737-1238.

Supporting documents and any comments we receive on this docket may be viewed at www.regulations.gov or in our reading room, which is located in Room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Dr. Mary Kate Anderson, Staff Veterinary Medical Officer, Live Animal Imports, Veterinary Services, APHIS, 4700 River Road, Riverdale, MD 20737; (301) 851-3300; email: LAIE@usda.gov.

SUPPLEMENTARY INFORMATION:

Background

Under the Animal Health Protection Act (AHPA, 7 U.S.C. 8301 et seq.), the Secretary of Agriculture may prohibit or restrict the importation or entry of any animal, article, or means of conveyance if the Secretary determines that the prohibition or restriction is necessary to prevent the introduction into or dissemination within the United States of any pest or disease of livestock.

Pursuant to this authority, the Animal and Plant Health Inspection Service (APHIS) administers the regulations in 9 CFR part 93. The regulations in part 93 govern the importation of live animals into the United States, and place restrictions on the importation of certain species or types of animals in order to address the risk that the animals present of introducing or disseminating diseases or pests of livestock.

The regulations in part 93 currently include requirements regarding the importation of live swine in order to address the risk that the swine may present of introducing African swine fever (ASF) into the United States; § 93.505 requires swine imported into the United States to be accompanied by a certificate attesting that the region of origin of the swine is free of ASF. ASF is a highly contagious disease of wild and domestic swine that can spread rapidly in swine populations with extremely high rates of morbidity and mortality.

APHIS monitors possible pathways of introduction of ASF into the United States and has identified dogs imported from ASF-affected countries for resale purposes, along with their bedding, as a potential pathway for introduction of ASF into the United States. Dogs for resale includes any transfer of ownership or control of an imported dog of less than 6 months of age to another person, for more than de minimis consideration (this includes such transactions as retail sale, wholesale, and fee-based adoption). Accordingly, on August 2, 2021, APHIS issued a Federal Order (DA-2021-01),¹ effective on August 16, 2021, imposing several requirements on the importation of dogs for resale from regions where ASF exists or is reasonably believed to exist. The Federal Order requires:

¹ https://www.aphis.usda.gov/import_export/downloads/vs-federal-order-asf.pdf.

• The U.S. importer must obtain an APHIS Animal Care import permit for dog(s) intended for resale and satisfy all import requirements.

• The dog(s) imported for resale must also meet all of the following APHIS Veterinary Services (VS) import requirements:

○ The dog(s) and their shipping crate/container must be free of dirt, wood shavings, hay, straw, or any other organic/natural bedding material.

○ All bedding that accompanies the dog(s) during transit must be properly disposed of at the post-entry point(s) of concentration in a way that prevents the introduction or spread of ASF.

• Disposal methods may include incineration; or disinfecting the bedding with an APHIS-approved disinfectant, placing the bedding in a leakproof bag, sealing the bag, disinfecting the bag exterior with an APHIS-approved disinfectant, inserting the disinfected bag into another leakproof bag, sealing that bag, disinfecting the bag exterior with the same disinfectant product, and disposing of the bag in a landfill in accordance with all State and local regulations.

○ Dog(s) must have an International Standards Organization (ISO) compliant microchip implanted, and the microchip number must be verified immediately before the animal is bathed.

• To certify a microchip as ISO compliant, the microchip must operate at a radio frequency of 134.2 kHz. ISO microchip numbers usually contain 15 digits.

○ Dog(s) must be bathed at the U.S. post-entry point(s) of concentration within 2 calendar days of arrival at the U.S. port of entry, and completion of this requirement must be documented on the VS Dog Import Record.

• U.S. post-entry point(s) of concentration are the first location where shipments of imported dog(s) are directly moved to following arrival at the U.S. port of entry.

Both parts of the VS Dog Import Record must be completed and submitted for each shipment of imported dog(s) intended for resale.

• Part 1 of the VS Dog Import Record must include the following information:

○ The name, phone number, email, and address of the importer.

○ The country of origin.

○ The APHIS Animal Care import permit number.

○ The number of dogs shipped.

○ The U.S. port of entry.

○ The date of the dog(s)' arrival in the United States.

○ The address(es) of the first U.S. post-entry point(s) of concentration.

○ Importer certification and signature.

• Part 2 of the VS Dog Import Record must include the following information:

○ The APHIS Animal Care import permit number.

○ Each dog's name (if applicable), microchip number, age, gender, breed, color/markings, and the date of bath completion.

○ The name, phone number, email, and signature of the importer.

○ The name, phone number, email and signature of the bather(s).

• Upon arrival at the U.S. post-entry point(s) of concentration, all bedding that accompanied the dog(s) during shipping must be properly disposed of.

• The individual microchip number must be verified immediately before each animal is bathed.

• The dog(s) must be bathed at the U.S. post-entry point(s) of concentration within 2 calendar days following entry into the United States. Completion of this requirement must be documented on the VS Dog Import Record and signed by the importer and bather(s).

• The VS Dog Import Record verifying the completion of all VS import requirements for every dog in the shipment must be submitted to APHIS within 2 business days following the dogs' entry into the United States.

• VS may require, at its discretion, animal inspection at the post-entry point(s) of concentration in the United States to verify import requirements were met. APHIS is proposing to add the above requirements, by adding paragraph (c) to § 93.600.

In general, the proposed regulation adheres to the requirements of the Federal Order. However, we are proposing one change with regard to unique identification of the dogs. While the Federal Order requires the microchip to be ISO-compliant and operate at a specific radio frequency, we are instead proposing that the microchip must meet APHIS-approved standards in providing unique identification. The list of such approved standards would be maintained on the internet at https://www.aphis.usda.gov/aphis/ourfocus/animalwelfare/dog-import-into-us/import-live-dogs-into-us, and we would publish a notice in the Federal Register if we update the list.

The list would currently state that microchips that are ISO-compliant and operate at a radio frequency of 134.2 kHz are APHIS-approved. However, if ISO adopts an alternate frequency that APHIS evaluates and finds acceptable, or should a different international standards body arise that is equivalently stringent to ISO, this deviation from the Federal Order would provide APHIS with sufficient flexibility to make changes to the list of acceptable identification to meet the terms of the regulations in a manner that does not require rulemaking.

Executive Orders 12866 and Regulatory Flexibility Act

This proposed rule has been determined to be not significant for the purposes of Executive Order 12866 and, therefore, has not been reviewed by the Office of Management and Budget.

In accordance with the Regulatory Flexibility Act, we have analyzed the potential economic effects of this action on small entities. The analysis is summarized below.

APHIS has determined that dogs imported from ASF affected countries for resale purposes, along with their bedding, represent a possible pathway for the introduction of disease. To block this pathway, APHIS issued a Federal Order (DA-2021-01) imposing several restrictions on the importation of dogs for resale from regions where ASF exists or is reasonably believed to exist.

ASF is found in countries around the world. More recently, it has spread to the Dominican Republic and Haiti. ASF has also spread through China, Mongolia and Vietnam, as well as within parts of the European Union.

Animal breeders and importers may be affected by this rulemaking. They will have to spend additional time to complete and submit the required documents. Importers will need to verify that they have met these restrictions by completing and submitting a Dog Import Record that will record information regarding the dogs' characteristics, identification, origin, entry into the United States, disposition of their bedding and packing material, and confirmation of bathing.

The U.S. importer must obtain an APHIS Animal Care (AC) import permit for dog(s) intended for resale, and satisfy all import requirements therein, including age and vaccination requirements. The dog(s) imported for resale must also meet all of the following APHIS Veterinary Services (VS) import requirements. The dog(s) and their shipping crate/container must be free of dirt, wood shavings, hay, straw, or any other organic/natural bedding material. All bedding that accompanies the dog(s) during transit must be properly disposed of at the post-entry point(s) of concentration in a way that prevents the introduction or spread of ASF. Dog(s) must have an International Standards Organization (ISO) compliant microchip implanted, and the microchip number must be verified immediately before the animal is bathed. Dog(s) must be bathed at the U.S. post-entry point(s) of concentration within 2 calendar days of arrival at the U.S. port of entry, and completion of this requirement must be documented on the VS Dog Import Record.

We have reason to believe that many of these requirements, such as microchipping and bathing, are routine industry practices and that entities will incur at most minimal additional costs in implementing them. Accordingly, based on the information we have, there is no reason to conclude that adoption of this proposed rule would result in any significant economic effect on a substantial number of small entities. However, we do not currently have all of the data necessary for a comprehensive analysis of the effects of this proposed rule on small entities. Therefore, we are inviting comments on potential effects. In particular, we are interested in determining the number and kind of small entities that may incur benefits or costs from the implementation of this proposed rule.

Executive Order 12372

This program/activity is listed in the Catalog of Federal Domestic Assistance under No. 10.025 and is subject to Executive Order 12372, which requires intergovernmental consultation with State and local officials. (See 2 CFR chapter IV.)

Executive Order 12988

This proposed rule has been reviewed under Executive Order 12988, Civil Justice Reform. If this proposed rule is adopted: (1) All State and local laws and regulations that are inconsistent with this rule will be preempted; (2) no retroactive effect will be given to this rule; and (3) administrative proceedings will not be required before parties may file suit in court challenging this rule.

Paperwork Reduction Act

This proposed rule contains no new information collection or recordkeeping requirements under the Paperwork Reduction Act of 1995 (44 U.S.C. 3501 et seq.). The information collection activities in this proposed rule are included under the Office of Management and Budget (OMB) control number 0579-0478 which has been submitted to OMB for approval.

E-Government Act Compliance

The Animal and Plant Health Inspection Service is committed to compliance with the E-Government Act to promote the use of the internet and other information technologies, to provide increased opportunities for citizen access to Government information and services, and for other purposes. For information pertinent to E-Government Act compliance related to this proposed rule, please contact Mr. Joseph Moxey, APHIS' Paperwork Reduction Act Coordinator, at (301) 851-2483.

List of Subjects in 9 CFR Part 93

Animal diseases, Imports, Livestock, Poultry and poultry products, Reporting and recordkeeping requirements.

Accordingly, APHIS proposes to amend 9 CFR part 93 as follows:

PART 93—IMPORTATION OF CERTAIN ANIMALS, BIRDS, FISH, AND POULTRY, AND CERTAIN ANIMAL, BIRD, AND POULTRY PRODUCTS; REQUIREMENTS FOR MEANS OF CONVEYANCE AND SHIPPING CONTAINERS

1. The authority citation for part 93 continues to read as follows:

Authority: 7 U.S.C. 1622 and 8301-8317; 21 U.S.C. 136 and 136a; 31 U.S.C. 9701; 7 CFR 2.22, 2.80, and 371.4.

2. Amend § 93.600 by adding paragraph (c) to read as follows:

§ 93.600 Importation of dogs.

* * * * *

(c) Dogs imported for resale purposes from regions where African swine fever exists or is reasonably believed to exist. In order for a dog for resale purposes (any transfer of ownership or control of an imported dog of less than 6 months of age to another person, for more than de minimis consideration) to be imported from a region listed in accordance with § 94.8(a)(2) of this subchapter as a region in which African swine fever (ASF) exists or is reasonably believed to exist, the following requirements must be met:

(1) Permitting. The U.S. importer must obtain an import permit in accordance with § 2.150 of this chapter for any dog intended for resale, and satisfy all import requirements in §§ 2.150 through 2.152 of this chapter, including age and vaccination requirements.

(2) Cleaning and disinfecting. The dogs and their shipping crate/container must be free of dirt, wood shavings, hay, straw, or any other organic/natural bedding material. Additionally, all bedding that accompanies the dog(s) during transit must be properly disposed of at the U.S. post-entry point(s) of concentration in a way that prevents the introduction or spread of ASF. U.S. post-entry points of concentration are the first location where shipments of imported dogs are directly moved to following arrival at the U.S. port of entry. Disposal methods include:

(i) Incineration; or

(ii) Disinfecting the bedding with a disinfectant specified by APHIS for use in mitigating ASF, placing the bedding in a leakproof bag, sealing the bag, disinfecting the bag exterior with the same disinfectant product, inserting the disinfected bag into another leakproof bag, sealing that bag, disinfecting the bag exterior with the same disinfectant product, and disposing of the bag in a landfill in accordance with all State and local regulations.

(3) Bathing. Dogs must be bathed at the U.S. post-entry point of concentration within 2 calendar days of arrival at the U.S. port of entry, and completion of this requirement must be documented on a VS Dog Import Record.

(4) Identification. Dogs must have a microchip implanted that meets APHIS-approved standards in providing unique identification. A list of all such standards is found on https://www.aphis.usda.gov/aphis/ourfocus/animalwelfare/dog-import-into-us/import-live-dogs-into-us. APHIS will publish a notice in the Federal Register if the list of identification standards is updated. Immediately before a dog is bathed in accordance with paragraph (c)(3) of this section, the party bathing the dog must verify that the dog has met the requirements of this paragraph (c)(4).

(5) Certification. The VS Dog Import Record verifying the completion of all VS import requirements for every dog in the shipment must be signed by the importer and bather and submitted to APHIS within 2 business days following the dogs' entry into the United States. Both parts of the VS Dog Import Record, as listed in this paragraph (c)(5), must be completed and submitted for each shipment of imported dogs intended for resale.

(i) Part 1 of the VS Dog Import Record must include the following information:

(A) The name, phone number, email, and address of the importer;

(B) The country of origin of the dog(s);

(C) The APHIS Animal Care import permit number;

(D) The number of dogs shipped;

(E) The U.S. port of entry;

(F) The date of the dog(s)' arrival in the United States;

(G) The addresses of the first U.S. post-entry points of concentration; and

(H) Importer certification and signature.

(ii) Part 2 of the VS Dog Import Record must include the following information:

(A) The APHIS Animal Care import permit number;

(B) Each dog's name (if applicable), microchip number, age, gender, breed, color/markings, and the date of bath completion;

(C) The name, phone number, email, and signature of the importer; and

(D) The name, phone number, email, and signature of the bather(s).

(6) Non-compliance. Non-compliance with any of APHIS' import requirements by an importer could result in appropriate enforcement or remedial actions, including refusal of entry.

* * * * *

Done in Washington, DC, this 21st day of September 2023.
Michael Watson,
Acting Administrator, Animal and Plant Health Inspection Service.

[FR Doc. 2023-20952 Filed 9-26-23; 8:45 am]

BILLING CODE 3410-34-P